DEPARTMENT OF HOUSING AND URBAN DEVELOPMENT

[Docket No. FR-5300-N-04]

Notice of Availability: Notice of Funding Availability (NOFA) for Fiscal Year (FY) 2009; Rural Housing and Economic Development Program (RHED)

AGENCY: Office of the Assistant Secretary for Community Planning and Development, HUD.

ACTION: Notice.

SUMMARY: HUD announces the availability on its website of the application information, submission deadlines, funding criteria, and other requirements for the FY2009 Rural Housing and Economic Development (RHED) Program NOFA. The Department of Housing and Urban Development Appropriations Act, 2009 (Pub. L. 111-8, approved March 11, 2009) makes available approximately $26 million in RHED funds, to remain available until expended, and this appropriation is to be competitively awarded by September 1, 2009. Applicants for RHED assistance must address the requirements established by HUD's Fiscal Year 2009 Notice of Funding Availability (NOFA) Policy Requirements and General Section to the HUD's FY2009 NOFAs for Discretionary Programs published on December 29, 2008 (73 FR 79548), as amended on April 16, 2009 (74 FR 17685). Applicants should take particular note that they must follow the application submission instructions contained in the FY2009 RHED NOFA and not use those in the General Section. The notice providing information regarding the application process, funding criteria and eligibility requirements is available on the HUD Web site at http://www.hud.gov/RHED.

FOR FURTHER INFORMATION CONTACT: For information concerning the RHED program, contact a Community Planning and Development Specialist, Office of Rural Housing and Economic Development, Office of Community Planning and Development, Department of Housing and Urban Development, 451 Seventh Street, SW., Room 7137, Washington, DC 20410-7000; telephone 202-708-2290 (this is not a toll-free number) or 1-877-787-2526 (this is a toll-free number). Persons with speech or hearing impairments may access this telephone number via TTY by calling the toll-free Federal Information Relay Service during working hours at 800-877-8339.

Dated: April 28, 2009.
Nelson R. Bregòn,
General Deputy Assistant Secretary for Community Planning and Development.

[FR Doc. E9-10186 Filed 4-29-09; 4:15 pm]

BILLING CODE 4210-67-P